INTERNATIONAL TRADE COMMISSION

Public Input on Improving Agency Procedures

AGENCY: United States International Trade Commission.

ACTION: Notice and solicitation of written comments.

SUMMARY: The United States International Trade Commission invites public input on specific ways in which it could improve its document management and electronic filing system, EDIS.

DATES: To be assured of consideration, written comments must be received in the Office of the Secretary to the Commission no later than 5:15 p.m. on or before November 6, 2003.

ADDRESSES: A signed original and 8 copies of each set of comments, along with a cover letter, should be submitted by mail or hand delivery to the Secretary, United States International Trade Commission, 500 E Street, SW., Room 112, Washington, DC 20436. The Commission's rules do not authorize filing of submissions with the Secretary by facsimile or electronic means, except to the extent permitted by § 201.8 of the Commission's Rules (19 CFR 201.8) (see Handbook for Electronic Filing Procedures, ftp://usitc.gov/pub/reports/electronic_filing_handbook.pdf.)

FOR FURTHER INFORMATION CONTACT: Marilyn R. Abbott (202-205-2799), Secretary, or Ann Jones, Deputy Secretary (202-205-1801), United States International Trade Commission. Hearing-impaired persons can obtain information on this matter by contacting the Commission's TDD terminal on 202-205-1810. The Commission's document management and electronic filing system, EDIS, may be viewed at http://edis.usitc.gov. General information concerning the Commission may also be obtained by accessing its World Wide Website (http://www.usitc.gov).

SUPPLEMENTARY INFORMATION: The Commission is an independent, quasi-judicial federal agency with a wide range of trade-related mandates. During the conduct of its work, the Commission collects, creates, and disseminates a large number of documents. These may include data from interested parties (such as domestic and foreign producers, U.S. importers, and purchasers); staff reports summarizing information collected concerning such indicators as imports, production, shipments, employment, profits and losses, and prices; hearings-related documents; and written opinions explaining the Commission's conclusions on factual and legal issues.

In 1996, the Commission established an electronic document imaging system to store and provide access to docket records in agency investigations. During FY 1999, the Commission made non-confidential official documents available online via the internally developed EDIS-Online (EOL) system as a pilot test of the feasibility of self-service access to its public records on the Web. In January 2003, the Commission implemented a new document management system (EDIS-II, http://edis.usitc.gov) with the capability to accept documents electronically. Consistent with the Government Paperwork Elimination Act (GPEA) (Div. C, Title XVII, Pub. L. 105-277), the Commission's Rules of Practice and Procedure currently provide for the filing of certain documents in electronic form.

Section 335 of the Tariff Act of 1930 (19 U.S.C. 1335) authorizes the Commission to adopt such reasonable procedures, rules, and regulations as it deems necessary to carry out its functions and duties. The Commission is interested in comments concerning all aspects of its EDIS document management and electronic filing initiative. To this end, the Commission is seeking input from the public, including persons and entities that appear before the agency, regarding (1) what features of the EDIS-II system have proven to be beneficial; (2) what technical difficulties have arisen in connection with use of the system; (3) how the agency can improve upon existing features; (4) what additional features may improve EDIS; and (5) how the agency might implement electronic filing and search/retrieval of confidential business and business proprietary information on EDIS.

With respect to documents containing confidential business information (CBI) or business proprietary information (BPI), the Commission is considering permitting parties and other persons to file these documents with the agency electronically. In addition to technical considerations, such as the implementation of encryption, the Commission is interested in whether or how to provide notice to parties of a filing, and business policy and procedures that may need to be addressed.

The Commission is also considering allowing the search/retrieval of CBI/BPI material by interested parties to investigations. Comments regarding such issues as who should be granted search/retrieval permissions, controls over user IDs and passwords, and when access should be terminated, are encouraged.

Comments on the usability and intuitiveness of the functional design of EDIS are of interest to the Commission. The agency encourages comments focusing on enhancing the search/retrieval process, to display and download documents, and generally, whether and how to make EDIS more user-friendly.

Written Submissions: Interested persons are invited to submit written statements concerning these or other matters related to the document management and electronic filing system. The Commission does not anticipate that any private sector party would need to include confidential business information in any submission filed in response to this notice. All comments received will be posted to EDIS as investigation number MISC-030.

Issued: October 16, 2003.
By order of the Commission.
Marilyn R. Abbott,
Secretary.

[FR Doc. 03-26693 Filed 10-22-03; 8:45 am]

BILLING CODE 7020-02-P